CORPORATION FOR NATIONAL AND COMMUNITY SERVICE

Proposed Information Collection; Submission for OMB Review; Comment Request

AGENCY: Corporation for National and Community Service.

ACTION: Notice.

SUMMARY: The Corporation for National and Community Service (hereinafter the “Corporation”), has submitted the following public information collection request (ICR) to the Office of Management and Budget (OMB) for review and approval in accordance with the Paperwork Reduction Act of 1995 (Pub. L. 104-13), (44 U.S.C. chapter 35). Copies of the ICR, with applicable supporting documentation, may be obtained by calling the Corporation for National and Community Service, Dave Bellama, 202-606-5000 ext. 483. Individuals who use a telecommunications device for the deaf (TTY-TDD) may call (202) 565-2799 between 8:30 a.m. and 5 p.m. eastern time, Monday through Friday.

Comments should be sent to the Office of Information and Regulatory Affairs, Attn: Ms. Katherine Astrich, OMB Desk Officer for the Corporation for National and Community Service, Office of Management and Budget, Room 10235, Washington, DC 20503, (202) 395-4718, within 30 days from the date of this publication in the Federal Register.

SUPPLEMENTARY INFORMATION: The OMB is particularly interested in comments that:

• Evaluate whether the proposed collection of information is necessary for the proper performance of the functions of the Corporation, including whether the information will have practical utility;

• Evaluate the accuracy of the agency's estimate of the burden of the proposed collection of information;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments: A 60-day Federal Register notice for the Training and Technical Assistance Cooperative Agreements was published on February 14th, 2005. The comment period ended on April 15, 2005. No comments were received during this period.

Description: The Corporation is seeking approval of the Application Instructions: Training and Technical Assistance Cooperative Agreements, currently approved through emergency clearance. The application to be published by the Corporation's Office of Leadership Development and Training will be completed by applicant organizations interested in providing training and technical assistance (T/TA) services to the Corporation's grantees.

The application includes submission and compliance requirements, application instructions, selection criteria, and reporting requirements for applications selected for awards. This application will be completed electronically using the Corporation's Web-based grants management system, eGrants.

Type of Review: New; currently approved through emergency clearance.

Agency: Corporation for National and Community Service.

Title: Application Instructions: Training and Technical Assistance Cooperative Agreements.

OMB Number: 3045-0105.

Frequency: Once in three years for applicants. Selected applicants will report bi-annually.

Affected Public: Current and prospective training and technical assistance (T/TA) providers.

Number of Respondents: 75.

Estimated Time Per Respondent: Averages 80 hours per respondent for 75 applicants and 80 hours each for the 15 selected applicants to report annually on their performance.

Total Burden Hours: 7,200.

Total Burden Cost (capital/startup): None.

Total Annual Cost (operating/maintaining systems or purchasing services): None.

Dated: May 11, 2005.
Gretchen Van Der Veer,
Director, Office of Leadership Development and Training.

[FR Doc. 05-10357 Filed 5-23-05; 8:45 am]

BILLING CODE 6050-$$-P